FEDERAL MARITIME COMMISSION

[Docket No. 22-13]

International Express Trucking, Inc., Complainant v. ZIM Integrated Shipping Services, Ltd., Respondent; Notice of Filing of Complaint and Assignment

Served: April 13, 2022.

Notice is given that a complaint has been filed with the Federal Maritime Commission (Commission) by International Express Trucking, Inc., hereinafter “Complainant”, against ZIM Integrated Shipping Services Ltd., hereinafter “Respondent”. Complainant alleges that Respondent is an ocean carrier company with an office in Norfolk, Virginia.

Complainant alleges that Respondents violated 46 U.S.C. 41102(c) and 46 CFR 545.4 and 545.5 with regard to assessing demurrage and/or detention charges against containers. The full text of the complaint can be found in the Commission's Electronic Reading Room at https://www2.fmc.gov/readingroom/proceeding/22-13/.

This proceeding has been assigned to Office of Administrative Law Judges. The initial decision of the presiding office in this proceeding shall be issued by April 13, 2023, and the final decision of the Commission shall be issued by October 27, 2023.

William Cody,
Secretary.

[FR Doc. 2022-08376 Filed 4-19-22; 8:45 am]

BILLING CODE 6730-02-P